DEPARTMENT OF ENERGY

Federal Energy Regulatory Commission

[Project No. 11842-003]

Hydro Energy Development Corporation; Notice of Surrender of Preliminary Permit

February 22, 2002.

Take notice that Hydro Energy Development Corporation, permittee for the proposed Big and Grade Creeks Project, has requested that its preliminary permit be terminated. The permit was issued on January 9, 2001, and would have expired on December 31, 2003. The project would have been located on Big and Grade Creeks in Skagit County, Washington.

The permittee filed the request on February 7, 2002, and the preliminary permit for Project No. 11842 shall remain in effect through the thirtieth day after issuance of this notice unless that day is a Saturday, Sunday, or holiday as described in 18 CFR 385.2007, in which case the permit shall remain in effect through the first business day following that day. New applications involving this project site, to the extent provided for under 18 CFR Part 4, may be filed on the next business day.

Magalie R. Salas,
Secretary.

[FR Doc. 02-4761 Filed 2-27-02; 8:45 am]

BILLING CODE 6717-01-P